DEPARTMENT OF COMMERCE

International Trade Administration

(C-351-504)

Certain Iron Construction Castings from Brazil; Five-year (“Sunset”) Review of Countervailing Duty Order; Final Results

AGENCY: Import Administration, International Trade Administration, Department of Commerce.

SUMMARY: Summary: On October 1, 2004, the Department of Commerce (“the Department”) initiated a sunset review of the countervailing duty order on certain iron construction castings (“iron castings”) from Brazil. On the basis of the notice of intent to participate, and no substantive response filed on behalf of the domestic interested parties and no response from respondent interested parties, the Department conduced an expedited sunset review. As a result of this review, the Department finds that revocation of the countervailing duty order would likely lead to continuation or recurrence of countervailable subsidies at the levels listed below in the section entitled “Final Results of Review”.

EFFECTIVE DATE: May 10, 2005.

FOR FURTHER INFORMATION CONTACT: Martha V. Douthit, Office of Policy, Import Administration, International Trade Administration, U.S. Department of Commerce, 14th Street and Constitution Avenue, NW., Washington, DC, 20230; telephone: (202) 482-5050.

SUPPLEMENTARY INFORMATION:

Background

On October 1, 2004, the Department initiated a sunset review of the countervailing duty order on iron castings from Brazil pursuant to section 751(c) of the Tariff Act of 1930, as amended (“the Act”).¹ The Department received a Notice of Intent to Participate on behalf of Deeter Foundry, Inc., East Jordan Iron Works, Inc., LeBaron Foundry, Inc., Leed Foundry, Inc., Municipal Castings, Inc., Neenah Foundry Company, Tyler Pipe Company, and U.S. Foundry & Manufacturing Co. (collectively, “domestic interested parties”), within the deadline specified in section 351.218(d)(1)(i) of the Department's regulations. Domestic interested parties claimed interested party status under section 771(9)(C) of the Act as U.S. producers of the subject merchandise.

¹ See Initiation of Five-Year (“Sunset”) Reviews, 69 FR 58890 (October 1, 2004.)

We received a complete response from the domestic interested parties within the deadline specified in the Department's regulations under section 351.218(d)(3)(i). However, we did not receive responses from any respondent interested parties as required in section 351.218(d)(3)(i) of the Departments regulations. As a result of receiving no responses from respondent interested parties, the Department conducted an expedited sunset review pursuant to section 751(c)(3)(B) of the Act and section 351.218(e)(1)(ii)(C)(2) of the Department's regulations.

Scope of the Order

The merchandise covered by the countervailing duty order consists of certain heavy iron construction castings from Brazil, limited to manhole covers, rings, and frames, catch basin grates and frames, cleanout covers and frames used for drainage or access purposes for public utility, water and sanitary systems, classifiable as heavy castings under Harmonized Tariff Schedule (“HTS”) item number 7325.10.0010. The HTS item numbers are provided for convenience and customs purposes only. The written description remains dispositive.

Analysis of Comments Received

All issues raised in this case are addressed in the “Issues and Decision Memorandum” (“Decision Memo”) from Ronald K. Lorentzen, Acting Director, Office of Policy, Import Administration, to Joseph A. Spetrini, Acting Assistant Secretary for Import Administration, dated May 2, 2005, which is hereby adopted by this notice. The issues discussed in the Decision Memo include the likelihood of continuation or recurrence of dumping and the magnitude of the margin likely to prevail if the order were revoked. Parties can find a complete discussion of all issues raised in this sunset review and the corresponding recommendations in this public memo, which is on file in room B-099 of the main Department Building.

In addition, a complete version of the Decision Memo can be accessed directly on the Web at http://ia.ita.doc.gov, under the heading “May 2005.” The paper copy and electronic version of the Decision Memo are identical in content.

Final Results of Review

We determine that revocation of the countervailing duty order on iron castings from Brazil would likely lead to continuation or recurrence of countervailable subsidies at the following percentage weighted-average percentage margins:

Manufacturers/Exporters/Producers | Weighted-Average Margin (Percent)
Country-wide rate | 1.06

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: May 2, 2005.
Joseph A. Spetrini,
Acting Assistant Secretary for Import Administration.

[FR Doc. E5-2294 Filed 5-9-05; 8:45 am]

BILLING CODE 3510-DS-S